DEPARTMENT OF JUSTICE

Drug Enforcement Administration

[Docket No. DEA-576]

Bulk Manufacturer of Controlled Substances Application: Noramco Inc.

ACTION: Notice of application.

DATES: Registered bulk manufacturers of the affected basic classes, and applicants therefore, may file written comments on or objections to the issuance of the proposed registration on or before April 3, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on July 17, 2019, Noramco Inc., 1550 Olympic Drive, Athens, Georgia 30601 applied to be registered as a bulk manufacturer of the following basic classes of controlled substances:

Controlled substance | Drug code | Schedule
Cathinone | 1235 | I
Gamma Hydroxybutyric Acid | 2010 | I
Marihuana Extract | 7350 | I
Marihuana | 7360 | I
Tetrahydrocannabinols | 7370 | I
Codeine-N-oxide | 9053 | I
Dihydromorphine | 9145 | I
Hydromorphinol | 9301 | I
Morphine-N-oxide | 9307 | I
Normorphine | 9313 | I
Amphetamine | 1100 | II
Lisdexamfetamine | 1205 | II
Methylphenidate | 1724 | II
Nabilone | 7379 | II
Codeine | 9050 | II
Dihydrocodeine | 9120 | II
Oxycodone | 9143 | II
Hydromorphone | 9150 | II
Hydrocodone | 9193 | II
Levorphanol | 9220 | II
Morphine | 9300 | II
Oripavine | 9330 | II
Thebaine | 9333 | II
Oxymorphone | 9652 | II
Noroxymorphone | 9668 | II
Alfentanil | 9737 | II
Sufentanil | 9740 | II
Carfentanil | 9743 | II
Tapentadol | 9780 | II
Fentanyl | 9801 | II

The company plans to manufacture bulk active pharmaceutical ingredients (APIs) and reference standards for distribution to their customers.

In reference to drug codes 7350 (marihuana extract), 7360 (marihuana), and 7370 (tetrahydrocannabinols), the company plans to bulk manufacture these drugs as synthetics. No other activities for these drugs are authorized for this registration.

Dated: January 24, 2020.
William T. McDermott,
Assistant Administrator.

[FR Doc. 2020-01959 Filed 1-31-20; 8:45 am]

BILLING CODE 4410-09-P